DEPARTMENT OF THE INTERIOR

Bureau of Reclamation

[RR02800000, 17XR0687ND, RX185279402000000]

Draft Environmental Impact Statement/Environmental Impact Report for the Yolo Bypass Salmonid Habitat Restoration and Fish Passage Project, Yolo, Sutter, and Solano Counties, California

AGENCY: Bureau of Reclamation, Interior.

ACTION: Notice of availability and notice of public meetings.

SUMMARY: The Bureau of Reclamation, as the National Environmental Policy Act Federal lead agency, and the California Department of Water Resources, as the California Environmental Quality Act State lead agency, have made available for public review and comment the Yolo Bypass Salmonid Habitat Restoration and Fish Passage Project Draft Environmental Impact Statement/Environmental Impact Report (EIS/EIR). Two public meetings will be held to receive comments from individuals and organizations on the Draft EIS/EIR.

DATES: Submit written comments on the Draft EIS/EIR on or before February 15, 2018.

Two meetings have been scheduled to receive oral or written comments regarding environmental effects:

• Wednesday, January 17, 2018, 6:00 p.m. to 8:00 p.m., Woodland, California.

• Thursday, January 18, 2018, 1:30 p.m. to 3:30 p.m., West Sacramento, California.

ADDRESSES: Send written comments on the Draft EIS/EIR to Mr. Ben Nelson, Bureau of Reclamation, 801 I Street, Suite 140, Sacramento, CA 95814, or via email to bcnelson@usbr.gov.

The public meetings will be held at the following locations:

• West Sacramento—Community Center, 1075 West Capitol Ave., West Sacramento, CA 95691.

• Woodland—Woodland Community and Senior Center, 2001 East Street, Woodland, CA 95776.

Electronic CD copies of the Draft EIS/EIR may be requested from the Bureau of Reclamation, at (916) 414-2424, or bcnelson@usbr.gov. The Draft EIS/EIR is also accessible from the following website: https://www.usbr.gov/mp/BayDeltaOffice/yolo-bypass.html.

Copies of the Draft EIR/EIS are available for public review at the following locations:

1. Bureau of Reclamation, Mid-Pacific Region, Regional Library, 2800 Cottage Way, Sacramento, CA 95825.

2. Bureau of Reclamation, Bay-Delta Office, 801 I Street, Suite 140, Sacramento, CA 95814.

3. Sacramento Public Library, 828 I Street, Sacramento, CA 95814.

FOR FURTHER INFORMATION CONTACT: Please contact Mr. Ben Nelson, Bureau of Reclamation, at (916) 414-2424, or via email at bcnelson@usbr.gov; or Ms. Karen Enstrom, Department of Water Resources, at (916) 376-9778, or via email at Karen.Enstrom@water.ca.gov.

SUPPLEMENTARY INFORMATION: The Draft EIS/EIR addresses methods to improve fish passage and increase floodplain fisheries rearing habitat in the Yolo Bypass to benefit Sacramento River winter-run Chinook salmon, Central Valley spring-run Chinook salmon, Central Valley steelhead, and Southern Distinct Population Segment North American green sturgeon. The Project actions would implement Reasonable and Prudent Alternative (RPA) actions I.6.1 and I.7, as described in the 2009 National Oceanic and Atmospheric Administration National Marine Fisheries Service Biological Opinion and Conference Opinion on the Long-Term Operations of the Central Valley Project and State Water Project (NMFS BO) and the 2012 Yolo Bypass Salmonid Habitat Restoration and Fish Passage Implementation Plan.

Substantial modifications have been made to the historical floodplain of California's Central Valley for water supply and flood damage reduction purposes. The resulting losses of rearing habitat, migration corridors, and food web production for fish have adversely affected native fish species that rely on floodplain habitat during part or all of their life history. The Bureau of Reclamation is responsible for managing the Central Valley Project (CVP) and the California Department of Water Resources is responsible for operating and maintaining the State Water Project (SWP). The SWP and CVP are operated in a coordinated manner to deliver water to agricultural, municipal, and industrial contractors throughout California. On June 4, 2009, the NMFS BO concluded that, if left unchanged, CVP and SWP operations are likely to jeopardize the continued existence of four anadromous species listed under the Federal Endangered Species Act: Sacramento River winter-run Chinook salmon, Central Valley spring-run Chinook salmon, Central Valley steelhead, and Southern Distinct Population Segment North American green sturgeon. The NMFS BO sets forth RPA actions that would allow CVP and SWP operations to remain in compliance with the Federal Endangered Species Act.

The purpose of the Project is to enhance floodplain rearing habitat and fish passage in the Yolo Bypass and/or suitable areas of the lower Sacramento River by implementing RPA actions I.6.1 and I.7. The objective of RPA action I.6.1 is to increase the availability of floodplain fisheries rearing habitat for juvenile Sacramento River winter-run Chinook salmon, Central Valley spring-run Chinook salmon, and Central Valley steelhead. The objective of RPA action I.7 is to reduce fish passage migratory delays and loss of fish at Fremont Weir and other structures in Yolo Bypass for salmon, steelhead, and sturgeon.

The EIS/EIR analyzes the No Action/No Project Alternative and six action alternatives. Alternative 1, East Side Gated Notch, Alternative 2, Central Gated Notch, and Alternative 3, West Side Gate Notch, would allow up to 6,000 cubic feet per second (cfs) of increased flow from the Sacramento River to enter the Yolo Bypass through a gated notch on the east side, center, and west side, respectively, of Fremont Weir. Alternative 4, West Side Gated Notch—Managed Flow, would allow up to 3,000 cfs of flow to enter the Yolo Bypass through a gated notch in Fremont Weir in the same western location as Alternative 3 and would incorporate water control structures to maintain inundation in defined areas for longer periods of time. Alternative 5, Central Multiple Gated Notches, includes multiple gates so that the deeper gate could allow more flow to enter the bypass when the river is at lower elevations to capture more fish during winter-run outmigration, with a maximum flow entering the Yolo Bypass of about 3,400 cfs. Alternative 6, West Side Large Gated Notch, would allow a higher flow of up to 12,000 cfs into the bypass to capture more fish when the Sacramento River is at lower elevations through a large notch in the western location of Fremont Weir.

If special assistance is required to participate in the public hearing, please contact Ms. Sarah McBride at (916) 978-5108, or via email at smcbride@usbr.gov. Please contact Ms. McBride at least 10 working days prior to the meeting. A telephone device for the hearing impaired (TDD) is available at (916) 978-5608.

Before including your address, phone number, email address, or other personal identifying information in your comment, you should be aware that your entire comment—including your personal identifying information—may be made publicly available at any time. While you can ask us in your comment to withhold your personal identifying information from public review, we cannot guarantee that we will be able to do so.

Dated: December 21, 2017.
Federico Barajas,
Deputy Regional Director, Mid-Pacific Region.

[FR Doc. 2017-28059 Filed 12-27-17; 8:45 am]

BILLING CODE 4332-90-P